FEDERAL RESERVE SYSTEM

Change in Bank Control Notices; Formations of, Acquisitions by, and Mergers of Bank Holding Companies; Correction

This notice corrects a notice (FR Doc. 2014-17906) published on page 44171 of the issue for Wednesday, July 30, 2014.

Under the Federal Reserve Bank of Atlanta heading, the entry for J.C. Jones, Jr.; Carole Jones; Patrick C. Jones, all of Blackshear, Georgia; J.C. Jones, III; 2012 Patrick C. Jones Irrevocable Trust; JCJ Irrevocable Trust; and The Jones Company, all of Waycross, Georgia, is revised to read as follows:

A. Federal Reserve Bank of Atlanta (Chapelle Davis, Assistant Vice President) 1000 Peachtree Street NE., Atlanta, Georgia 30309:

1. The JCJ Irrevocable Trust, Waycross, Georgia, Mindy L. Jones, Cumming, Georgia, and James C. Jones, III, Blackshear, Georgia, as co-trustees, and the 2012 Patrick C. Jones Irrevocable Trust and Patrick C. Jones, Blackshear, Georgia, as trustee; to retain voting shares of Jones Bancshares LP, Waycross, Georgia, and thereby indirectly retain voting shares of PrimeSouth Bancshares, Waycross, Georgia, and PrimeSouth Bank, Blackshear, Georgia.

Comments on this application must be received by August 14, 2014.

Board of Governors of the Federal Reserve System, August 8, 2014.
Margaret McCloskey Shanks,
Deputy Secretary of the Board.

[FR Doc. 2014-19121 Filed 8-12-14; 8:45 am]

BILLING CODE 6210-01-P